DEPARTMENT OF EDUCATION

34 CFR Chapter III

[Docket ID ED-2025-OSERS-0003]

National Vocational Rehabilitation Technical Assistance Center

AGENCY: Office of Special Education and Rehabilitative Services (OSERS), Department of Education.

ACTION: Final priority, requirements, and definitions.

SUMMARY: The Department of Education (Department) announces a priority, requirements, and definitions under the Rehabilitation Training program, Assistance Listing Number 84.264L. The Department may use the priority, requirements, and definitions for competitions in fiscal year (FY) 2025 and later years. We will use the priority, requirements, and definitions to award a cooperative agreement for a national vocational rehabilitation technical assistance center (NVRTAC) to provide training and technical assistance to personnel of State vocational rehabilitation (VR) agencies and their partners to upgrade and increase their competencies, skills, and knowledge in providing quality services and effective management of the VR program.

DATES: The priority, requirements and definitions are effective July 17, 2025.

FOR FURTHER INFORMATION CONTACT: Roslyn Thomas, U.S. Department of Education, 400 Maryland Avenue SW, Lyndon Baines Johnson Building, Room 4A10, Washington, DC 20202. Telephone: (202) 987-0105. Email: 84.264L@ed.gov.

If you are deaf, hard of hearing, or have a speech disability and wish to access telecommunications relay services, please dial 7-1-1.

SUPPLEMENTARY INFORMATION:

Purpose of Program: The purpose of this program is to provide competitive grants, including cooperative agreements, to, or enter into contracts with, eligible entities to expand and improve the provision of VR and other services authorized under the Rehabilitation Act of 1973 (Rehabilitation Act) or to further the purposes and policies in sections 2(b) and (c) of the Rehabilitation Act by supporting activities that increase the provision, extent, availability, scope, and quality of rehabilitation services under the Act. Under the Rehabilitation Act, the Rehabilitation Services Administration (RSA) Commissioner is authorized to make grants to, and enter into contracts with States and public or nonprofit agencies and organizations (including institutions of higher education (IHEs)) to support projects that assist state and other agencies in providing VR and other services to individuals with disabilities to maximize their employment, independence, and integration into the community and the competitive labor market, and provide training and technical assistance designed to assist in increasing the numbers of, and upgrading the skills of, qualified personnel (especially rehabilitation counselors) who are trained in providing VR services as well as other services authorized under the Rehabilitation Act.

Assistance Listing Number: 84.264L.

Program Authority: 29 U.S.C. 772(a)(1).

Applicable Program Regulations: 34 CFR part 385.

We published a notice of proposed priority, requirements, and definitions (NPP) for this program in the Federal Register on January 17, 2025 (90 FR 5778). That notice contained background information and our reasons for proposing the priority, requirements, and definitions.

Public Comment: In response to our invitation in the notice of proposed priority, requirements, and definitions, five parties submitted comments addressing multiple topic areas on the proposed priority, requirements, and definitions.

Generally, we do not address technical and other minor changes or suggested changes the law does not authorize us to make under the applicable statutory authority. In addition, we do not address general comments that raised concerns not directly related to the proposed priority, requirements, or definitions.

Analysis of Comments and Changes: An analysis of the comments and of any changes in the priority, requirements, and definitions since publication of the notice of proposed priority, requirements, and definitions follows.

Comment: None.

Discussion: All individuals with disabilities should be treated equally as required by Federal civil rights law. As such, we have reviewed the proposed priority and have removed examples that single out subgroups of individuals with disabilities from the priority, project requirements, and application requirements.

Changes: We have removed “traditionally underserved populations” from section (h) of the priority, from section (g)(11) and (g)(14) of the project requirements, and section (a)(1)(i) of the application requirements.

Comments: All commenters expressed general support for the NVRTAC and its objectives. One commenter specifically stated support for combining support into a single center.

Discussion: The Department appreciates the comments and agrees that State VR agencies will receive more efficient and effective support from a single provider.

Changes: None.

Comment: One commenter suggested that the Department ensure the appropriate balance between NVRTAC activities that support program and financial compliance and those that provide technical assistance around innovation for high-quality VR services.

Discussion: The Department agrees with a goal of achieving both fiscal and program success along with innovation. In addition to the specific language in the priority and requirements that promote quality VR services and improvements to service delivery, RSA also will seek ways to balance the focus on both fiscal and program success as part of the cooperative agreement for this grant, once awarded.

Changes: None.

Comment: One commenter recommended specifying the following topic areas under intensive training and technical assistance: Individualized Plan for Employment (IPE) development, career planning, assistive technology and artificial intelligence, self-employment, and business engagement. The commenter also recommended a requirement for technical assistance to State VR agencies on the Randolph-Sheppard Vending Facility Program and for the onboarding and training of counselors, including those with a bachelor's degree and with master's degrees from other counseling fields.

Discussion: With the exception of career planning, all topics proposed by the commenter were included in the broad topics of training and technical assistance required under the priority in section (k), or in requirement (g) related to required topics for targeted and universal training and technical assistance. While the Department agrees that these may be relevant topics of intensive technical assistance and clarifies that they remain allowable topic areas under the priority, we do not believe it is appropriate to require that each agreement for intensive training and technical assistance include these topics, as those agreements are intended to be tailored to the needs of each participating VR state agency. However, the Department agrees that requirement (e) can be updated to clarify that these topics of training and technical assistance are allowable. Regarding the commenter's recommendation about the requirements, the Department notes that these topics are included in requirements (g) and (b) and appreciates the support for their inclusion. They remain included in the final requirements. The Department also agrees with the commenter that career planning should also be included under the broad training and technical assistance areas outlined in the priority.

Changes: Project requirement (e)(2) has been revised to clarify that intensive training and technical assistance topics may include those referenced in the priority's broad program management, performance, or resource management areas as well as those listed under targeted and universal training and technical assistance, consistent with the applicable intensive training and technical assistance agreements. The final priority has been revised to add career planning in program management and performance area section (k).

Comment: One commenter recommended that the NFP authorize the NVRTAC to provide intensive training and technical assistance to community rehabilitation programs (CRPs) to enhance their ability to provide referred services to VR participants and to designated State agencies (DSAs) on the non-delegable duties outlined in 34 CFR 361.13(b)(1).

Discussion: As part of engaging in technical assistance, State VR agencies may involve CRPs and DSAs. This may build on the existing priority (j) and project requirement (g)(11) that references CRPs. Additionally, if a State VR agency identifies a CRP- or DSA-related issue, the agency may propose addressing the issue within an intensive training and technical assistance agreement and, if appropriate, invite those entities to participate in related activities. The Department also welcomes applicants to address these concerns within their proposals related to the training and technical assistance plan, landscape analysis, intensive training and technical assistance agreements, and resolving corrective actions. However, the Department believes that the grantee will work most efficiently by engaging state VR agencies directly and primarily.

Changes: None.

Comment: One commenter recommended that the nationwide training and technical assistance needs assessment in project requirement (c)(2) encompass input from workforce development partners including CRPs.

Discussion: The Department agrees that workforce development partners, including CRPs, can contribute valuable insights to the nationwide training and technical assistance needs assessment in project requirement (c).

Changes: Project requirement (c)(2) has been revised to add a reference to input from workforce development partners, including CRPs, in the nationwide training and technical assistance needs assessment.

Comment: One commenter recommended expanding the NVRTAC advisory committee's membership requirements in project requirement (a) to reflect the “dual customer” relationship between State VR and potential employers.

Discussion: The Department agrees that expanding the advisory committee's required membership to reflect the relationship between State VR and the business community would be consistent with the priority and the Rehabilitation Act.

Changes: Project requirement (a) has been revised to add “business specialist” and “business representative” to the advisory committee membership.

Comment: One commenter emphasized the need for timely communication between the Department, the NVRTAC, and State VR agencies on policy issues pertinent to the provision of intensive training and technical assistance. Specifically, the commenter suggests that the Department give the grantee maximum flexibility to respond directly to the VR agencies receiving intensive training and technical assistance.

Discussion: The Department agrees with the importance of timely communication between RSA, the NVRTAC, and State VR agencies on policy issues related to the provision of intensive training and technical assistance. RSA will address this issue collaboratively in the cooperative agreement between the Department and the eventual grantee, consistent with this priority.

Change: None.

Comment: One commenter responded to the NPP's specific request for comment on the best way to prioritize among State VR agencies needing intensive training and technical assistance. The commenter suggested a formal assessment of the prospective VR agency's needs prior to the provision of intensive training and technical assistance.

Discussion: The Department appreciates the commenters suggestion regarding prioritizing intensive training and technical assistance to State VR agencies. The Department will consider including a formal assessment methodology in its cooperative agreement for the NVRTAC.

Changes: None.

Comment: Two commenters advised against adopting the unrestricted indirect cost established for the Department's Independent Living for Older Individuals who are Blind Technical Assistance Center and advocated for maintaining the indirect cost rates that apply to the current vocational rehabilitation technical assistance centers.

Discussion: Indirect cost requirements are set forth in program statute and will be addressed in the Notice Inviting Applications. As such, this comment is outside the scope of this Notice.

Changes: None.

Comment: One commenter suggested that the NVRTAC consider recent national VR program and fiscal improvements between Program Years 2023 and 2024 in its provision of training and technical assistance activities.

Discussion: Under project requirement (c)(3), an applicant must conduct a nationwide training and technical assistance needs assessment, including “information regarding the latest national trends, barriers, challenges, and opportunities.” As such, the Department believes the requirement captures this recommendation as written.

Changes: None.

Final Priority

National Vocational Rehabilitation Technical Assistance Center

The purpose of this priority is to fund a cooperative agreement to establish a National Vocational Rehabilitation Technical Assistance Center (NVRTAC).

The NVRTAC will provide intensive training and technical assistance, targeted training and technical assistance, and universal training and technical assistance to State VR agencies that will enable VR agencies to improve VR program management and performance and, most importantly, to improve employment outcomes achieved by individuals with disabilities.

Regarding program management and performance, the NVRTAC's training and technical assistance will support the assessment, development, and enhancement of VR State agency leaders and staff knowledge, skills, and abilities to improve service delivery and employment outcomes for individuals with disabilities and to perform the following functions:

(a) Implementing State VR agency-level best practices and policies for maximizing engagement and achieving Competitive Integrated Employment (CIE) for individuals with disabilities. The center will provide VR agency personnel with technical assistance on evaluating whether the management strategies they adopt have been shown to increase the percentage of participants who achieve an MSG/credential and exit the program with an employment outcome and modifying those strategies, if necessary, to achieve continuous program improvement. The NVRTAC will provide intensive training and technical assistance, targeted training and technical assistance, and universal training and technical assistance to State VR agencies to improve or develop a broad range of management policies and practices, both programmatic and fiscal, to address needs common to many agencies;

(b) Disseminating clear, consistent messages on RSA priorities for the development and implementation of sound management and financial systems and strong internal controls;

(c) Identifying strengths and weaknesses in the agency's capacity to understand factors affecting program effectiveness and timeliness (such as the ability to analyze case service data to identify trends and disparities in employment outcomes achieved by various groups of individuals with disabilities) and designing management strategies to address these deficits;

(d) Analyzing the VR agency's human resource management for inclusion of best practice for recruitment, retention, and onboarding strategies including orientation training for new VR agency directors;

(e) Understanding statutory and regulatory requirements related to performance management, including calculations for the common performance measures required under the Workforce Innovation and Opportunity Act (WIOA);

(f) Monitoring and improving financial and program data reporting and accuracy;

(g) Conducting performance evaluation and quality assurance improvement activities, including the use of data for performance management systems and the implementation of the common performance measures required by WIOA;

(h) Conducting strategic planning and implementing the strategies to address aspects of a strengths, weaknesses, opportunities, and threats (SWOT) assessment that pose challenges and barriers to improving service delivery and employment outcomes for individuals with disabilities, including those with significant and the most significant disabilities, and students and youth with disabilities;

(i) Developing and implementing effective and efficient program and fiscal policies for delivering pre-employment transition services under section 113, VR services under section 103(a), and supported employment services under title VI of the Rehabilitation Act;

(j) Implementing proactive strategies for the State VR agency to collaborate and engage with educational agencies, Centers for Independent Living, American Indian Vocational Rehabilitation agencies, and community rehabilitation programs;

(k) Implementing strategies to maximize timely and meaningful engagement of VR clients during application and eligibility determination, career planning, development of the Individualized Plan for Employment (IPE), and service delivery;

(l) Accurately addressing the required descriptions in the VR services portion of the WIOA Unified or Combined State Plan, particularly in setting goals and strategies that can improve performance;

(m) Coordinating efforts with the State Rehabilitation Council;

(n) Developing relationships with public policymakers and optimizing the VR agency's presence and visibility by marketing the program in accordance with the requirements in the Guidance for Federal Financial Assistance at 2 CFR 200.467 and RSA guidance;

(o) Understanding the key resource management elements, including but not limited to financial management, human resources management, and program management and their relevance to important VR program outcomes and various cost containment measures, such as implementing an order of selection giving priority for services to individuals with the most significant disabilities, assessing the need for and impact of implementing a financial needs test and cost participation in services, and implementing the requirement to seek comparable services and benefits for certain services, among others; and

(p) Resolving corrective action plans and strategies to increase compliance and reduce future noncompliance.

Regarding effective resource management, the NVRTAC will support the assessment, development, and enhancement of staff knowledge, skills, and abilities to ensure that—

(a) Resources, including program funds and personnel, are being used for allowable purposes, are appropriately allocated, and support innovation in compliance with statutory and regulatory requirements;

(b) Internal controls and reporting systems upon which State VR agencies base fiscal and programmatic forecasting and decision-making are improved and reliable to support attainment of program goals and objectives; and

(c) Resources, including program funds and personnel, are fully used in ways that meet existing program needs, priorities, and expected employment outcomes for individuals with disabilities.

The following are TA project activities the NVRTAC will undertake to address weaknesses in resource management:

(a) Assess performance of grantees' financial management processes used to support attainment of fiscal and programmatic outcomes (for example, whether an agency's fiscal processes support the accurate tracking and reporting of non-Federal funds to maximize the drawdown of Federal award funds to support attainment of employment outcomes); and use the assessment to identify areas for improvement in fiscal processes that will assist the agency in meeting program goals.

(b) Assess personnel training and technical assistance needs to identify gaps in fiscal knowledge, skills, and abilities that prevent the agency from the effective and efficient use of resources necessary to achieve employment outcomes.

(c) Provide intensive training and technical assistance on financial planning, to maximize program resources and attainment of program goals and objectives, maximize opportunities for non-Federal sources of match, avoid potential maintenance of effort deficits and match penalties, and meet the reservation of funds requirement for pre-employment transition services.

(d) Provide technical assistance on implementing Federal, State, and program fiscal requirements, including internal controls, in an efficient and effective manner to reduce unnecessary burden and to focus efforts on program outcomes.

(e) Provide technical assistance on the identification, collection, and analysis of program and fiscal data necessary for program management and maximizing available resources to plan and support consumer services.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Project Requirements

The Department establishes the following project requirements for this program. We may apply one or more of these requirements, including one or more of the activities listed under these requirements, in any year in which this program is in effect.

To meet the requirements of this priority, the NVRTAC must, at a minimum, conduct the following activities through innovative approaches:

(a) Establish an advisory committee for the NVRTAC. The committee members must include individuals with disabilities, representatives from State VR agencies, including business specialists, individuals with VR subject matter expertise, business representatives, community rehabilitation providers, individuals with subject matter expertise in assistive technology and advance technology for individuals with disabilities, and individuals with subject matter expertise in financial management and resources management for VR programs. The committee members will provide input and recommendations pertaining to the project design, project implementation, and the project evaluation. At a minimum, the committee should meet semi-annually.

(b) Establish a state-of-the-art NVRTAC website with information technology platform for communicating with State VR agencies and providing training and TA to state VR agencies' personnel. NVRTAC must ensure that all products produced by the NVRTAC and posted on the website have been developed in collaboration with RSA and meet government and industry-recognized standards for accessibility and security.

The website will serve as a key training and technical assistance delivery vehicle; peer-to-peer communication hub; stakeholder convening platform; and the central repository of information about technical assistance and training materials and resources developed and provided by the NVRTAC, including training modules for State VR agency leadership and VR counseling professionals, as well as for new employees onboarding resources. In addition, the system must have the capacity to track training completion or related records, as applicable.

(c) Conduct nationwide technical assistance and training needs assessment of State VR agencies' personnel during the first six months of the project. The needs assessment must include the areas of VR program management, financial and resource management, service delivery, and employment outcomes and should be informed by the following—

(1) Input from RSA staff, RSA monitoring reports, and State VR agency corrective action plans;

(2) Input from State VR agencies and workforce development partners, including community rehabilitation programs, about their needs, priorities, and innovative approaches to program and resource management that lead to improved service delivery;

(3) Information regarding the latest National trends, barriers, challenges, and opportunities; and

(4) Information regarding effective and efficient program and resource management strategies, techniques, and practices that may be applicable to State VR agencies.

(d) Develop a training and technical assistance plan. Based on the results of the needs assessment, develop an overarching training and technical assistance plan that must include, at a minimum—

(1) Management strategies and practices that result in improved service delivery and employment outcomes for individuals with disabilities, including the rationale for their selection;

(2) Conceptual framework for the selected strategies and practices, including key assumptions, expectations, and presumed relationships or linkages among strategies and practices;

(3) Nature and scope of the intensive training and technical assistance, targeted training and technical assistance, and universal training and technical assistance to be provided in support of the selected strategies and practices;

(4) Protocols and timelines for requesting, obtaining, and completing training and technical assistance; and

(5) Protocols and timelines for transitioning the State VR agency's technical assistance, upon completion of the technical assistance agreement, to the designated RSA State Liaison, when appropriate.

(e) Provide intensive training and technical assistance to State VR agencies consistent with the technical assistance plan based on a review of a wide variety of information sources, including, but not limited to, RSA's monitoring reports and corresponding State VR agency corrective action plans; State audit reports; WIOA State plans, particularly the VR portion of these State plans; RSA staff feedback; and the results of comprehensive statewide needs assessments. Intensive training and technical assistance may be provided on-site, over a specified time period, under the terms of signed intensive training and technical assistance agreements between the NVRTAC and the participating State VR agencies. Numerical targets for the number of intensive training and technical assistance agreements will be included in the cooperative agreement between RSA and the NVRTAC.

The intensive training and technical assistance agreements between the NVRTAC and the requesting State VR agencies must include the following components:

(1) Management strategies and practices to be implemented by the State VR agency that are designed to improve service delivery and maximize quality employment outcomes for individuals with disabilities.

(2) Nature and scope of the training and technical assistance to be provided by the NVRTAC. Topic areas addressed within the intensive training and technical assistance agreements may include the priority's broad management, performance, or resource management areas or the targeted and universal training and technical assistance topics in paragraph (g), below.

(3) Roles and responsibilities of the NVRTAC, State VR agency, RSA, and other workforce development partners, including the commitment of resources.

(4) Logic model (as defined in 34 CFR 77.1) that is specific to the intensive need being addressed and that includes performance outcomes, targets, and baselines; project activities, inputs, and outputs; and data collection and analysis commitments.

(f) Implement a plan for project evaluation, which includes a timeline for the evaluation and measurement benchmarks, that will evaluate the impact of the center's training and technical assistance on the performance of the VR agencies that received the center's services. As part of the evaluation plan, there must be a logic model that includes data elements, inputs, activities, outputs, and short-term and long-term performance indicators regarding—

(1) Quantitative outcomes resulting from the program management and employment strategies and practices, including—

(i) Timeliness of the VR processes and services;

(ii) Number of employment outcomes;

(iii) VR participants' employment or career-readiness;

(iv) Cost-effectiveness; and

(v) Sustainability;

(2) Quality, relevance, and usefulness of the project's training and technical assistance activities;

(3) Quantitative or qualitative insights about the relationship between strategies, practices, and training and technical assistance activities on critical outcomes for VR personnel, VR clients, and key partners, including through—

(i) Pre- and post-training assessments;

(ii) Focus groups; and

(iii) Success stories.

(g) Develop and implement models and materials for targeted and universal training and technical assistance for VR agency personnel, on state VR program and fiscal management, and employment strategies for individuals with disabilities, which must include the following—

(1) Integration of assistive technology and artificial intelligence tools to fuel CIE in the 21st century for individuals with disabilities;

(2) Career pathways education, internships, apprenticeships, training, and supports in high-demand occupations, including those in science, technology, engineering, and mathematics (STEM) fields, advanced technology;

(3) Registered and industry-recognized apprenticeships, pre-apprenticeships, and on-the-job training;

(4) Supported employment and customized employment;

(5) Customized training and credential programs to meet employers' demand;

(6) Self-employment and entrepreneurship, including services available under the Randolph-Sheppard Vending Facility Program;

(7) Business engagement and employer supports including dual customer models such as Progressive Employment;

(8) Practices to enhance the employment capacity of individuals with the most significant disabilities receiving supported employment services, such as the Individual Placement and Support model;

(9) Pre-employment transition services that prepare students with disabilities and transition services that prepare youth with disabilities to identify career interests through work-based learning and early career exploration opportunities, including career pathways, internships, and job shadowing, with a focus on high-demand and STEM careers;

(10) Career counseling techniques and resources, including labor market information tools such as Career Index Plus;

(11) Collaboration with workforce development partners, community rehabilitation programs, and other community-based organizations to provide the comprehensive support services that individuals with significant and the most significant disabilities, and students and youth with disabilities, need to succeed, such as the Integrated Resource Teams model;

(12) Approaches that encourage VR clients to consider jobs in the advanced technology fields that respond to expected labor market needs;

(13) Approaches that encourage VR clients to enter and remain engaged in the VR process, such as rapid engagement, motivational interviewing, benefits counseling, and financial empowerment training, and vehicles such as the Achieving a Better Life Experience (ABLE) tax-free accounts for individuals with disabilities and flexibilities associated with Social Security Income; and

(14) Community outreach strategies to expand the pool of potential VR applicants and referral sources.

Final Application Requirements

The Department establishes the following application requirements for the purpose of this priority. We may apply one or more of these requirements, including one or more of the activities listed under these requirements, in any year in which this program is in effect.

Applicants must—

(a) Provide a landscape analysis of current challenges, opportunities, and initiatives in national VR technical assistance and training. The landscape analysis must address the following:

(1) Knowledge about—

(i) State VR program challenges in performance, including barriers and trends regarding program and resource management and employment outcomes for individuals with disabilities especially those with significant and the most significant disabilities, and students and youth with disabilities, particularly as noted in recent RSA monitoring reports and State VR agency corrective action plans; and

(ii) Federal and State initiatives and best practices to improve program and resource management and employment outcomes for individuals with disabilities, particularly in response to requirements under WIOA.

(2) The proposed project's potential to contribute to these Federal and State initiatives by assisting State VR agencies in equipping personnel with the necessary skills and training to implement the substantive provisions of the Rehabilitation Act introduced by WIOA that are designed to improve the employment outcomes for individuals with disabilities.

(b) Provide an implementation plan. The implementation plan must describe the feasibility of the management plan to achieve project objectives and goals on time and within budget, including clearly defined responsibilities, timelines, and milestones for accomplishing project tasks and meeting expected outcomes.

(c) Describe the plans to establish a state-of-the-art NVRTAC website and information technology platform.

(d) Describe plans for completing the national technical assistance and training needs assessment.

(e) Specify strategies to maximize coordination between the NVRTAC and other TA centers and seek opportunities to coordinate with other training and technical assistance investments, including those funded by the U.S. Departments of Education, Labor, and Health and Human Services, in the provision of training and technical assistance to State VR agencies.

(f) Describe the proposed evaluation plan and logic model for the project.

(g) Provide a dissemination plan. The dissemination plan must describe plans to disseminate its summative findings and results at national conferences, regional forums, or specialized meetings starting after the first year of the performance period, including cost-effective approaches such as virtual convenings, to engage State VR agencies and other potential Federal, State, local, and nongovernment partners, including—

(1) Types of events (e.g., conferences, forums, specialized meetings);

(2) Target audience (e.g., by event type); and

(3) Convening modes (in-person, virtual).

Final Definitions

The Department establishes the following definitions for this program to ensure that applicants have a clear understanding of how we are using these terms. We may apply these definitions in any year in which this program is in effect.

Intensive training and technical assistance means training and technical assistance provided to State VR agencies and State VR agency personnel, in consultation with RSA, primarily on-site for a specific issue and a set period of time negotiated between the State VR agency and NVRTAC. Intensive training and technical assistance is based on an ongoing relationship between the training and technical assistance center staff and State VR agencies and State VR agency personnel under the terms of a signed intensive training and technical assistance agreement.

Targeted training and technical assistance means training and technical assistance based on needs common to one or more State VR agencies and State VR agency personnel on a time-limited basis and with limited commitment of training and technical assistance center resources. Targeted training and technical assistance are delivered through virtual, or in-person methods tailored to the identified needs of the participating State VR agencies and State VR agency personnel.

Universal training and technical assistance means training and technical assistance broadly available to State VR agencies and State VR agency personnel and other interested parties through their own initiative, resulting in minimal interaction with training and technical assistance center staff. Universal training and technical assistance include generalized presentations, products, and related activities available through a website or through brief contacts with the training and technical assistance center staff.

This notice does not preclude us from proposing additional priorities, requirements, definitions, or selection criteria, subject to meeting applicable rulemaking requirements.

Note: This notice does not solicit applications. In any year in which we choose to use these priorities, requirements, or definitions, we invite applications through a notice in the Federal Register.

Executive Orders 12866, 13563, and 14192

Regulatory Impact Analysis

Under Executive Order 12866, it must be determined whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect in a material way the economy, a sector of the economy, productivity, competition, jobs, the environment, public health or safety, or State, local, or Tribal governments or communities;

(2) Create a serious inconsistency or otherwise interfere with an action taken or planned by another agency;

(3) Materially alter the budgetary impacts of entitlements, grants, user fees, or loan programs or the rights and obligations of recipients thereof; or

(4) Raise novel legal or policy issues arising out of legal mandates, the President's priorities, or the principles set forth in the Executive order.

This regulatory action is not a significant regulatory action subject to review by OMB under section 3(f) of Executive Order 12866.

Since this regulatory action is not a significant regulatory action under section 3(f) of Executive Order 12866, it is not considered an “Executive Order 14192 regulatory action.”

We have also reviewed this regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits;

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing the final priority, requirements, and definitions only on a reasoned determination that their benefits justify their costs. In choosing among alternative regulatory approaches, we selected those approaches that maximize net benefits. Based on the analysis that follows, the Department believes that this regulatory action is consistent with the principles in Executive Order 13563.

We have also determined that this regulatory action does not unduly interfere with State, local, territorial, and Tribal governments in the exercise of their governmental functions.

In accordance with these Executive orders, the Department has assessed the potential costs and benefits, both quantitative and qualitative, of this regulatory action. The potential costs are those resulting from statutory requirements and those we have determined as necessary for administering the Department's programs and activities.

In addition, we have considered the potential benefits of this regulatory action and have noted these benefits in the background section of the NPP.

Paperwork Reduction Act of 1995

The final priorities, including requirements, contain information collection requirements that are approved by OMB under OMB control number 1820-0028; the final priorities, including requirements, do not affect the currently approved data collection.

Regulatory Flexibility Act Certification: The Secretary certifies that this final regulatory action will not have a significant economic impact on a substantial number of small entities. The U.S. Small Business Administration (SBA) Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000. Participation in this program is voluntary. For this reason, the proposed priority and requirements would impose no burden on small entities unless they applied for funding under the program. We expect that in determining whether to apply for any project under the Rehabilitation Training (RT) program funds, an eligible applicant would evaluate the requirements of preparing an application and any associated costs and weigh them against the benefits likely to be achieved by receiving a RT grant. Eligible applicants most likely would apply only if they determine that the likely benefits exceed the costs of preparing an application. The likely benefits include the potential receipt of a grant as well as other benefits that may accrue to an entity through its development of an application.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Diana Diaz,
Deputy Assistant Secretary and Acting Assistant Secretary for Special Education and Rehabilitative Services.

[FR Doc. 2025-11103 Filed 6-16-25; 8:45 am]

BILLING CODE 4000-01-P